DEPARTMENT OF ENERGY

Federal Energy Regulatory Commission

[Project No. 3615-002]

Drew River Mill, Inc.; Notice of Site Visit

June 28, 2002.

The staff of the Office of Energy Projects (OEP) will be conducting a site visit for the Branch River Mill Project (Project) on August 1, 2002. Representative(s) of Drew River Mill, Inc. will accompany the OEP staff. All interested parties may meet at 9:30 a.m. at the Project dam. Attendees must provide their own transportation.

For further information, please contact the Commission's Office of External Affairs at 1-866-208-FERC.
Linwood A. Watson, Jr.,
Deputy Secretary.

[FR Doc. 02-16839 Filed 7-3-02; 8:45 am]

BILLING CODE 6717-01-P